DEPARTMENT OF THE INTERIOR

Bureau of Land Management

[ES-020-1610-DO]

Notice of Intent To Prepare a Resource Management Plan for Alabama and Mississippi. Call for Coal Information and Invitation To Participate in Identification of Issues and Planning Criteria

AGENCY: Bureau of Land Management, Interior.

ACTION: Notice of Intent and Call for Coal Information.

SUMMARY: The Bureau of Land Management (BLM) field office in Jackson, Mississippi (Jackson Field Office) is initiating the preparation of a Resource Management Plan (RMP) for the states of Alabama and Mississippi (AL-MS).

This action will require the preparation of an Environmental Impact Statement (EIS). Planning will be conducted for lands (tracts) and minerals under the administration of the BLM. The RMP will establish land use management policy on approximately 2,080 acres of land in Alabama, 3,770 acres of land in Mississippi and 200,000 acres of BLM administered in Alabama and Mississippi fluid mineral rights (oil and gas).

This notice also solicits coal information (Call for Coal Information) for BLM-administered coal in Alabama and Mississippi. Coal companies, state and local governments, and the general public are encouraged to submit information to assist the BLM in determining coal development potential, and development conflicts with other resources. If it is determined that there is development potential, BLM staff will give further consideration to addressing coal leasing in the RMP. See SUPPLEMENTARY INFORMATION for the data requested in this Call for Coal Information.

DATES: Submit comments and coal information on or before September 10, 2002.

ADDRESSES: Send written comments and coal information to BLM, Jackson Field Office; RMP AL-MS; 411 Briarwood Dr., Ste. 404; Jackson, MS 39206. Submit electronic comments and coal information to Elizabeth_Allison@blm.gov (RMP Team Leader). See SUPPLEMENTARY INFORMATION for file formats and other information about electronic filing.

FOR FURTHER INFORMATION CONTACT: Elizabeth Allison, (601) 977-5413.

SUPPLEMENTARY INFORMATION: Planning will be conducted for lands (tracts) and minerals under the administration of the BLM. The tracts are located in more than 32 counties in Alabama and 19 counties in Mississippi. There are approximately 200,000 acres of BLM administered fluid mineral rights (oil and gas) under patented (private) lands in Alabama and Mississippi. BLM administered coal in these States may be addressed, if there are expressions of interest for future leasing and development.

Preliminary issues represent the BLM's knowledge, to date, on existing issues and concerns. The anticipated issues to be addressed in the RMP include, but are not limited to: (1) Public lands that could be transferred from BLM administration; (2) public lands that would be designated and managed as special management areas, and (3) BLM-administered fluid minerals that would be closed to leasing or designated as open to oil and gas development under (a) standard terms and conditions, (b) timing limitation (seasonal) constraints, (c) controlled surface use constraints, or (d) no surface occupancy constraints.

These issues are not final and may be refined by public input (comments). Issues proposed by the public will be reviewed by BLM. Determinations will be made as to whether they (1) will be addressed in the RMP or (2) are outside the scope of the RMP.

Preliminary planning criteria developed to guide the preparation of this RMP are listed below. These criteria may be refined by public input (comment).

1. Land use planning and environmental analysis will be conducted in accordance with laws, regulations, executive orders and manuals. Planning will be conducted for lands (tracts) and minerals under the administration of the BLM.

2. Surface tracts will be mapped and identified by legal description. Land use policy will be established for BLM-administered lands identified after the RMP is completed.

3. A reasonably foreseeable development scenario (RFDS) will be prepared for the future leasing (and development) of fluid minerals under split-estate lands (i.e., non-BLM surface and BLM minerals). The RFDS will be developed on a regional (county) basis. Areas of high, moderate and low oil and gas potential will be identified (mapped) for each state.

4. Areas with the potential for non energy solid mineral leasing (i.e., phosphates, sodium, etc.) will be evaluated for inclusion in the RMP.

5. Resource data needed to evaluate the impacts of future (foreseeable) mineral development will be collected on a regional basis.

6. The planning team will work cooperatively with (1) federal, state, county and local governments and agencies; (b) tribal governments; (c) groups and organizations; and (d) individuals.

An interdisciplinary team approach will be used to address resource issues in this RMP. The preliminary list of resource programs that will be addressed includes archeology, lands and realty, geology and minerals, outdoor recreation, socioeconomic, soils, water, and wildlife. A RFDS will be developed for BLM-administered fluid minerals and used in the preparation of the RMP and EIS.

This notice initiates the National Environmental Policy Act (NEPA) public scoping process. The BLM will work collaboratively with interested parties to identify the management decisions that are best suited to national, regional and local needs and concerns. The public is invited to participate in this planning process, beginning with the identification of issues and planning criteria for the RMP. Comments relating to the preliminary issues and planning criteria (listed above) can be submitted in writing to the address listed above.

This planning process will emphasize localized one-to-one contacts, media coverage, direct mailings and continual coordination and collaboration. Meetings will be conducted to (1) determine the scope of the RMP, and (2) obtain input on issues and planning criteria. All public meetings will be announced through the local news media and BLM's Web site (www.es.blm.gov) at least 15 days prior to the event.

Individuals who submit comments may request confidentiality. If you wish to withhold your name or street address from public review or from disclosure under the Freedom of Information Act, you must state this prominently at the beginning of your written comment. Such requests will be honored to the extent allowed by law. All submissions from organizations and businesses and individuals identifying themselves as representatives or officials of organizations or businesses, will be available for public review in their entirety.

You may submit comments and coal information by sending electronic mail (e-mail) to Elizabeth_Allison@blm.gov (RMP Team Leader).

Submit comments as an ASCII file avoiding the use of special characters and any form of encryption. The BLM also accepts comments and data on disks in WordPerfect 7 (and higher) and Word 97 (and higher) file formats or the ASCII file format. Identify all comments and data in electronic form by the docket number [PP 4F4327/R2253].

Information is needed to determine (1) The potential for coal development and (2) the development conflicts with other resources. Industry and other interested parties are asked to provide information required in Title 43 of the Code of Federal Regulations (CFR), subpart 3420.1-2 (43 CFR 3420.1-2). Information is needed for (1) the application of coal planning screens, and (2) possible activity planning (i.e., tract delineation, ranking and selection). Based on the information that's received, additional issues (coal leasing) could be addressed in the RMP.

Those issues would be based on:

1. Determining areas acceptable for further coal leasing consideration with standard stipulations.

2. Determining areas acceptable for further coal leasing consideration with special stipulations.

3. Determining areas unacceptable for further coal leasing consideration.

These determinations will be based on the data BLM receives. BLM staff will: (1) Assess coal development potential, (2) apply unsuitability criteria to proposed lease areas, (3) identify potential multiple use conflicts and (4) identify surface owner consultation needs.

The type of information needed includes, but is not limited to, the following:

1. Location:

a. Mining companies should include a narrative description and delineate areas on a map (scale of 1 inch to 2,000 feet) for areas they are interested in leasing.

b. Descriptions of both public and private industry coal users in the general region.

2. Quantity needs (tonnage, dates) for both public and private industry coal developers and users.

3. Quality needs (by type and grade) by end users of the coal.

4. Coal reserve drilling data which may pertain to the planning area.

5. Information pertaining to land and mineral ownership.

a. Surface owner consent previously granted, whether consent is transferrable, and surface owner leases with coal companies.

b. Non federal, or fee (private) coal ownership adjacent to federal tracts currently leased or mined.

6. Other resource values occurring within the planning area which may conflict with coal development:

a. Describe the resource value and locate it on a map (scale of 1 inch to 2,000 feet).

b. State the reasons the particular resource would be in conflict with coal development.

Any individual, business entity, or public body may participate in this process by providing coal or other resource information under this Call for Coal Information.

(Authority: 43 U. S. C. 1701 et al; 42 U. S. C. 4321.)

Dated: June 4, 2002.
Mike Nedd,
Eastern States Director.

[FR Doc. 02-17589 Filed 7-11-02; 8:45 am]

BILLING CODE 4310-GJ-P